ENVIRONMENTAL PROTECTION AGENCY

[Docket No. OEI-2004-0002; FRL-7789-1]

Forum on Public Access to Federal Rulemaking Through the Internet; Announcement of Public Meetings and Request for Comment

AGENCY: Environmental Protection Agency (EPA).

ACTION: Notice.

SUMMARY: The eRulemaking Initiative, a federal government-wide effort, will hold a series of public meetings and an online dialogue to obtain public input on its major projects.

The Initiative will use information technology to expand public understanding and involvement in the rulemaking process by providing an easy and consistent way for the public to search, view, and comment on proposed federal regulations online. It is comprised of three major parts. In January 2003, an inter-agency team launched http://www.regulations.gov, the first component of the Initiative. This Web site allows the public to search, view, and download all rulemaking documents published in the Federal Register. It also allows the public to submit comments on proposed regulations currently open for comment.

The second part of the Initiative is the development of a full-featured electronic docket management system that will provide the public with online access to the broad set of documents routinely included in regulatory and non-regulatory dockets (e.g., Federal Register notices; technical, scientific, and legal analyses; and public comments). It will continue to provide the public with the same capabilities as Regulations.gov and will ultimately replace existing electronic and paper-based docket systems. The federal docket system will include additional features, such as full-text and Boolean search capabilities, e-mail notification, data export, and reporting and tracking functions.

The last part of the eRulemaking Initiative is the development of an online workspace containing a variety of tools and templates to assist in the development, review, and publication of federal regulations and the analysis of public comments. Such tools will be available to federal regulation writers and the public and may include databases, collaboration applications, and content categorization software.

The Environmental Protection Agency, as managing partner of the eRulemaking Initiative, will convene a series of public meetings to solicit feedback on the usability and features of the Regulations.gov Web site, the planned government-wide electronic federal docket management system, and the online rulewriter toolbox. Comments received will be considered during the development and/or enhancements of these systems. In addition to these public meetings, Harvard University's John F. Kennedy School of Government, in partnership with the eRulemaking Program Office, will host an online national dialogue to solicit additional public input.

Individuals planning to attend the public meetings or participate in the online dialogue should contact the individual listed under FOR FURTHER INFORMATION CONTACT for the location of the meeting. Please register no later than one week before the event.

DATES: Public meetings are scheduled to be held on the following dates:

1. August 2, 2004; 9:30 a.m. to 12:30 p.m., San Francisco, CA.

2. August 3, 2004; 9:30 a.m. to 12:30 p.m., Chicago, IL.

3. August 9, 2004; 9:30 a.m. to 12:30 pm., Cambridge, MA.

4. August 9, 2004; 12:00 p.m. to 6 p.m., Online Dialogue.

5. August 12, 2004; 9:30 a.m. to 12:30 p.m., Washington, DC.

Should a meeting be rescheduled, registrants will be notified via e-mail.

Comments must be received on or before August 16, 2004.

ADDRESSES: Submit your comments, identified by Docket ID No. OEI-2004-0002, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• Mail: OEI Docket, Environmental Protection Agency, Mailcode: 2822T, 1200 Pennsylvania Ave., NW., Washington, DC 20460.

• Hand Delivery: OEI Docket, EPA/DC, EPA West, Room B102, 1301 Constitution Ave., NW., Washington, DC. Such deliveries are only accepted during the Docket's normal hours of operation (8:30 a.m. to 4:30 p.m., Monday through Friday, excluding legal holidays), and special arrangements should be made for deliveries of boxed information.

Instructions: Direct your comments to Docket ID No. OEI-2004-0002. EPA's policy is that all comments received during the open comment period will be included in the public docket without change and may be made available online at: http://www.epa.gov/edocket, including any personal information provided, unless the comment includes information claimed to be Confidential Business Information (CBI) or other information whose disclosure is restricted by statute. Do not submit information that you consider to be CBI or otherwise protected through EDOCKET or Regulations.gov.

The EPA EDOCKET and the federal Regulations.gov Web sites are “anonymous access” systems, which means EPA will not know your identity or contact information unless you provide it in the body of your comment. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the EDOCKET index at: http://www.epa.gov/edocket. Although listed in the index, some information is not publicly available, i.e., CBI or other information whose disclosure is restricted. Certain other material, such as copyrighted material, is not placed on the Internet and will be publicly available only in hard copy form. Publicly available docket materials are available either electronically in EDOCKET or in hard copy at the OEI Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the OEI Docket is (202) 566-1752.

FOR FURTHER INFORMATION CONTACT: Kristin Tensuan, eRulemaking Program Branch, Collection Strategies Division (Mail Code 2822V), Office of Environmental Information (OEI), Environmental Protection Agency, 1200 Pennsylvania Ave., NW., Washington, DC 20460; telephone number: (202) 632-0338; fax number: (202) 632-0349; e-mail address: tensuan.kristin@epa.gov.

SUPPLEMENTARY INFORMATION:

I. General Information

A. Background

The eRulemaking Initiative is an E-Government Initiative authorized by Section 206 of the E-Government Act of 2002. The Initiative's goals include:

• Expand public understanding of the rulemaking process by providing an easy and consistent way for public to search, view, and comment on federal rules.

• Improve the quality of federal rulemaking decisions and transparency of the rulemaking process.

• Increase the amount, breadth, and ease of citizen and intergovernmental access and participation by using the Internet to enhance public access to information on federal rulemaking.

The eRulemaking Initiative consists of three modules:

Module 1—Regulations.gov. Launched in January 2003, this Web site provides one-stop, online access to every open rule published by more than 160 different federal agencies. The Web site allows the public to view and download Federal Register notices of every federal rule currently open for comment as well as allow the public to submit comments to the appropriate federal agency.

Module 2—Federal Docket Management System. This system, currently under development, will build upon Regulations.gov to establish a full-featured docket management system. It will serve as a central repository for federal rulemaking dockets, which are comprised of Federal Register notices, supporting materials, and public comments. The docket management system also will be designed to include non-rulemaking documents, such as Information Collection Requests that agencies can post online for public comment.

Module 3—Online Rulewriter Toolbox. The Initiative also will explore deploying information technology tools to assist in the development, review, and publication of federal regulations and the analysis of public comments. Tools will be available to federal regulation writers and the public. Such tools may include templates, collaboration applications, databases and content categorization software.

The Environmental Protection Agency leads an inter-agency team that manages the Initiative. Other participating federal agencies include: Department of Agriculture, Department of Commerce, Department of Defense, Department of Energy, Department of Health and Human Services, Department of Homeland Security, Department of Housing and Urban Development, Department of Interior, Department of Justice, Department of Labor, Department of Transportation, Department of Treasury, Equal Employment Opportunity Commission, Federal Communications Commission, National Archives and Records Administration, General Services Administration, the Government Printing Office, and the Small Business Administration.

B. Topics of Discussion

The eRulemaking Program Office is seeking public feedback on the usability and features of the Regulations.gov Web site, the planned government-wide electronic federal docket management system, and the rulewriter's toolbox. The following topics will be discussed at the meetings:

• Web site designs that maximize ease-of-use and public utilization,

• Features that users consider most important and would frequently use,

• Additional capabilities that users can apply, and

• Other considerations regarding the eRulemaking Initiative.

We welcome comments from stakeholders interested in electronic rulemaking including, but not limited to, advocacy groups, trade associations, labor unions, regulated industries, small businesses, state and local governments, and the academic community.

II. Additional Information

Additional information about the eRulemaking Initiative is available online at: http://www.regulations.gov. You may also contact the person listed under the FOR FURTHER INFORMATION CONTACT section of this notice. Help in understanding the Federal rulemaking process and terminology is available from the Federal Register at: http://www.gpoaccess.gov/fr/index.html.

Dated: July 13, 2004.
Mark A. Luttner,
Director of Information Collection, Office of Environmental Information.

[FR Doc. 04-16328 Filed 7-15-04; 8:45 am]

BILLING CODE 6560-50-P